DEPARTMENT OF COMMERCE

National Oceanic and Atmospheric Administration

RIN 0648-XE117

Groundfish Operational Assessment Public Meeting

AGENCY: National Marine Fisheries Service (NMFS), National Oceanic and Atmospheric Administration (NOAA), Commerce.

ACTION: Notice of public meeting.

SUMMARY: NMFS and the Northeast Regional Stock Assessment Workshop (SAW) will convene a peer review of Operational Stock Assessments of twenty fish stocks. These stocks are managed by the New England Fishery Management Council and are included within the Northeast Multispecies Fishery Management Plan. This will be a formal, scientific peer review of operational assessments which incorporate recent data. Results of the review will be used as a basis for management decisions for fish stocks in U.S. waters of the northwest Atlantic. Assessments are prepared by stock assessment scientists primarily from the Northeast Fisheries Science Center and reviewed by a panel of stock assessment experts. The public is invited to attend the presentations and discussions by reviewers and scientists who have participated in the stock assessment process.

DATES: The public portion of the Stock Assessment Review Committee Meeting will be held from September 14, 2015 through September 18, 2015. The meeting will commence on September 14, 2015 at 10 a.m. Eastern Daylight Time. Please see SUPPLEMENTARY INFORMATION for the daily meeting agenda.

ADDRESSES: The meeting will be held in the S.H. Clark Conference Room in the Aquarium Building of the National Marine Fisheries Service, Northeast Fisheries Science Center (NEFSC), 166 Water Street, Woods Hole, MA 02543. FOR FURTHER INFORMATION, CONTACT: Sheena Steiner, 508-495-2177; email: sheena.steiner@noaa.gov; or, James Weinberg, 508-495-2352; email: james.weinberg@noaa.gov

SUPPLEMENTARY INFORMATION: For further information, please visit the NEFSC Web site at http://www.nefsc.noaa.gov/.

Daily Meeting Agenda—Operational Assessments for 20 Groundfish Stocks *

Monday, September 14

10-10:30 a.m.

Welcome

Introductions

10:30 a.m.-6 p.m.

Gulf of Maine Cod

Georges Bank Cod

Gulf of Maine Haddock

Tuesday, September 15

8:30 a.m.-6 p.m.

Georges Bank Haddock

Cape Cod/Gulf of Maine Yellowtail Flounder

Southern New England/Mid-Atlantic Yellowtail Flounder

Georges Bank Winter Flounder

Southern New England/Mid-Atlantic Winter Flounder

Wednesday, September 16

8:30 a.m.-6 p.m.

Acadian Redfish

American Plaice

Witch Flounder

White Hake

Thursday, September 17

8:30 a.m.-6 p.m.

Pollock

Wolffish

Atlantic Halibut

Gulf of Maine/Georges Bank Windowpane

Southern New England/Mid-Atlantic Windowpane

Ocean Pout

Gulf of Maine Winter Flounder

Georges Bank Yellowtail Flounder

Friday, September 18

9 a.m.-5 p.m.—Assessment Report Writing

* Subject to Change

Special Accommodations

This meeting is physically accessible to people with disabilities. Special requests should be directed to Sheena Steiner at the NEFSC, 508-495-2177, at least 5 days prior to the meeting date.

Dated: August 13, 2015.
Tracey L. Thompson,
Acting Director, Office of Sustainable Fisheries, National Marine Fisheries Service.

[FR Doc. 2015-20322 Filed 8-17-15; 8:45 am]

BILLING CODE 3510-22-P